NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: October 25, 2010, 8:30 a.m.-5:30 p.m., October 26, 2010, 8:30 a.m.-2 p.m.

Place: National Science Foundation (NSF), 4201 Wilson Boulevard, Arlington, VA 22230.

To help facilitate your access into the building, please contact the individual listed below prior to the meeting so that a visitor's badge may be prepared for you in advance.

Type of Meeting: Open.

Contact Person: Dr. Margaret E.M. Tolbert, Senior Advisor and CEOSE Executive Liaison, Office of Integrative Activities, National Science Foundation, 4201 Wilson Boulevard, Arlington, VA 22230.

Telephone Numbers: (703) 292-4216, 703-292-8040; mtolbert@nsf.gov.

Minutes: Minutes may be obtained from the Executive Liaison at the above address or the Web site at http://www.nsf.gov/od/oia/activities/ceose/index.jsp.

Purpose of Meeting: To study NSF programs and policies and provide advice and recommendations to the National Science Foundation (NSF) concerning broadening participation in science and engineering.

Agenda

Monday and Tuesday, October 25-26, 2010

Opening Statements by the CEOSE Chairs

Presentations and Discussions:

✔ Expanding Minority Participation: America's Science and Technology Talent at the Crossroads

✔ Reports from CEOSE Liaisons to NSF Advisory Committees

✔ Progress Report on Correcting the Multi-Race Coding Error in the Survey of Doctorate Recipients

✔ The Process for Filling CEOSE Membership Vacancies

✔ Appointment of CEOSE Liaisons to NSF Advisory Committees

✔ Establishment of CEOSE Ad Hoc Subcommittees

✔ An Update on Plans to Establish the Science of Broadening Participation Program

✔ A Conversation with the Leader(s) of the National Science Foundation

Dated: October 6, 2010.
Susanne Bolton,
Committee Management Officer.

[FR Doc. 2010-25525 Filed 10-8-10; 8:45 am]

BILLING CODE 7555-01-P